DEPARTMENT OF COMMERCE

International Trade Administration

Mission Statement; Jordan and Egypt Business Development Mission; February 14-19, 2009

AGENCY: Department of Commerce.

ACTION: Notice.

Mission Description

The United States Department of Commerce, International Trade Administration, U.S. and Foreign Commercial Service is organizing a trade mission to Amman, Jordan and Cairo, Egypt, February 14-19, 2009. The mission will include representatives from U.S. firms offering equipment and services in a variety of industry sectors, including, but not limited to, the following: Aerospace, automotive parts, construction, education and training, energy and power generation, environmental, food processing, franchising, hotel and restaurant, medical, oil and gas field machinery, packaging, petrochemical, pharmaceutical, port development, railroad, real estate development, security, telecommunications, and water and wastewater treatment. All U.S. companies are eligible to apply.

Commercial Setting

Jordan

Jordan continues to take steps to transform itself into an outward-oriented, internationally competitive market-based economy, and has made considerable progress toward achieving macroeconomic stability and in implementing economic reform, especially in the areas of privatization and investment. Key reforms have been undertaken in the information technology, pharmaceuticals, tourism, and services sectors. Foreign and domestic investment laws grant specific incentives to industry, agriculture, hotels, hospitals, transportation, recreation projects, convention centers, and pipeline distribution of water, gas, and oil. Having worked closely with the International Monetary Fund and practiced careful monetary policy, Jordan now stands out in its region as a model of sound investor-friendly economic policy.

Jordan's government liberalized its trade regime to guarantee its membership in the World Trade Organization (April 2000), and the U.S.-Jordan Free Trade Agreement (FTA), which entered into enforcement December 2001, will eliminate virtually all trade barriers between the two countries over a period of 10 years, heightening advantages for U.S. exporters as tariff rates fall year-by-year. Jordan and the United States have also concluded a treaty to protect bilateral investment.

The Jordanian market has enjoyed two years of gross domestic product (GDP) growth averaging 7 percent and is expected to see continued expansion. Reforms to customs, taxation, and investment laws have improved the business climate. Investors continue to show interest in Jordan's Qualifying Industrial Zones (QIZs), duty-free export portals that, since 1999, have attracted over $450 million in capital investments and created more than 55,000 new jobs, of which about 15,000 are held by Jordanians—57 percent by Jordanian women. Jordanian imports from the United States reached $857 million in 2007, a 31.8 percent increase over the previous year. Important market opportunities exist for U.S. firms in a variety of sectors, and there are niche markets for pharmaceuticals, laboratory equipment, real estate management services, and renewable energy, among others.

Egypt

At 78.8 million, Egypt is by far the largest Arab country by population and has a reasonably well-educated labor force. Egypt's economy, traditionally associated with agriculture, has become increasingly diversified. While tourism is its single largest foreign exchange earner, Egypt is also a major oil and gas producer, ranking among the world's top ten gas exporters. The clothing and textile sector is the largest industrial employer and a major foreign exchange earner. Other leading industries include steel, cement, chemicals, pharmaceuticals, and light consumer goods. Agriculture, although shrinking as a percentage of GDP, still employs almost 30 percent of the population.

Egypt's economy has improved considerably since 2005, due mainly to a new reformist government that has successfully floated the Egyptian pound, eliminated foreign exchange shortages along with the black market, reduced tariffs and simplified the tariff structure, moved to reform the financial sector, introduced measures to simplify the tax structure while lowering rates, and reduced the red tape necessary to conduct business. Supported by sustained reforms, Egypt's economy marked a year of impressive performance in 2007, receiving record foreign investment (FDI), along with official reserves exceeding $30 billion. The Gross Domestic Product (GDP) grew by 7.1 percent, and is expected to expand at a similar rate in 2008. Most of the FDI has gone into construction and manufacturing, resulting in lower unemployment. The government has also inked agreements with China, Jordan, Russia, Turkey and Qatar to construct industrial zones. Receipts from the Suez Canal and tourism brought in more than $11 billion in the first three quarters of last year. The Egyptian stock market has been one of the best performers in the region.

Egypt's government is putting in place an institutional framework for private-public partnerships (PPPs). PPP projects in the pipeline include building and maintaining 2,100 public schools, four hospitals, several potable and wastewater stations, and two freeways. Unmet demand for housing construction is estimated to be 200,000 units annually. Telecommunications is another bright spot in the economy. Mobile penetration rates by three mobile operators stand at 28 million, or about 35 percent of the population. The government is expected to grant a second fixed-line license in 2008. Other significant sectors of interest to U.S. companies include steel, cement, chemicals, pharmaceuticals, and light consumer goods. In addition, tourism, employing more than 10 percent of Egyptian workers, continues to offer strong possibilities, as expansion of Red Sea resorts and new development along the Mediterranean drive demand for hotel equipment and environmental management services. Airports and other infrastructure projects being built to serve the new resorts represent additional opportunities for U.S. firms offering project management and building systems and equipment.

Mission Goals

The mission will assist representatives of American companies responsible for business activity in the Middle East and North Africa (MENA) with their efforts to identify profitable opportunities and new markets for their respective U.S. companies and to increase their export potential. The mission will actively market and recruit New-to-Export (NTE) and New-to-Market (NTM) firms. Results expected from the mission include matches between U.S. participants and potential partners, agents and distributors, and joint venture partners; and market knowledge for future expansion.

Mission Scenario

The mission will include commercial briefings, matchmaking appointments with local firms, and networking receptions in Amman, Jordan and Cairo, Egypt. Activities are scheduled to take place within a single work week, beginning Sunday in Jordan and ending Thursday in Egypt.

Proposed Mission Timetable

The precise schedule will depend on the availability of local government and business officials and the specific goals of the mission participants. The tentative trip itinerary will be as follows:

Saturday, February 14, 2009

—Arrive Amman, Jordan

—Ice Breaker Reception

Sunday, February 15, 2009

—Commercial Briefing

—Networking Lunch

—Matchmaking Meetings

Monday, February 16, 2009

—Matchmaking Meetings at the hotel

—Mission Networking Reception

Tuesday, February 17, 2009

—Depart Amman, Jordan

—Arrive in Cairo, Egypt

—Ice Breaker Reception

Wednesday, February 18, 2009

—Commercial Briefing

—Networking Lunch

—Matchmaking Meetings

Thursday, February 19, 2009

—Matchmaking Meetings at the hotel

—Networking Lunch/Mission Wrap-Up

Criteria for Participation and Selection

All parties interested in participating in the Jordan and Egypt Business Development Mission must complete and submit an application package for consideration by the Department of Commerce. All applicants will be evaluated on their ability to meet certain conditions and best satisfy the selection criteria as outlined below. A minimum of 5 and a maximum of 15 companies will be selected to participate in the mission from the applicant pool. U.S. companies already doing business in the MENA region, as well as U.S. companies seeking to enter the region for the first time, may apply.

Fees and Expenses

After a company has been selected to participate on the mission, a payment to the Department of Commerce in the form of a participation fee is required. The participation fee will be $3,000 for a small or medium-sized enterprise (SME) * and $3,575 for large firms. The fee for each additional firm representative (SME or large firm) is $300. Expenses for travel, lodging, most meals, and incidentals will be the responsibility of each mission participant. Delegation members will be able to take advantage of Embassy rates for hotel rooms.

* An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (for additional information see http://www.export.gov/newsletter/march2008/initiatives.html).

Eligibility: Participating companies must be incorporated or otherwise organized in the United States.

Conditions for participation:

• An applicant must submit a completed and signed application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria:

Selection will be based on the following criteria:

• Suitability of the company's products or services to the Jordan and Egypt markets.

• Applicant's potential for business in Jordan and Egypt, including likelihood of exports resulting from the mission.

• Consistency of the applicant's goals and objectives with the stated scope of the mission. Referrals from political organizations and any documents containing references to partisan political activities (including political contributions) will be removed from an applicant's submission and not considered during the selection process.

Timeframe for Recruitment and Applications

Mission recruitment will be conducted in an open and public manner, including posting on the Commerce Department trade missions' calendar— http://www.ita.doc.gov/doctm/tmcal.html—and other Internet Web sites, publication in domestic trade publications and association newsletters, direct outreach, and announcements at industry meetings, symposia, conferences, and trade shows. The mission will also be promoted by the ITA ANESA Team members in U.S. Export Assistance Centers.

Recruitment for the mission will begin immediately and conclude no later than January 14, 2009. The mission will open on a first come first served basis. Applications received after January 14, 2009 will be considered only if space and scheduling constraints permit.

Contact Information

Sheryl Maas, Commercial Counselor, U.S. Commercial Service, American Embassy—Amman, Phone: (962) (6) 590-6632, E-mail: Sheryl.Pinckney-maas@.mail.doc.gov and muna.farkouh@mail.doc.gov.

Cherine Maher, Commercial Specialist, U.S. Embassy Cairo, Telephone: +20 (2) 2797-2688/2689, E-mail: Mark.Russell@mail.doc.gov or cherine.maher@mail.doc.gov.

Nyamusi K. Igambi, Senior International Trade Specialist, Houston U.S. Export Assistance Center, Phone: 713-209-3112, E-mail: Nyamusi.Igambi@mail.doc.gov.

Dated: January 7, 2009.
Nyamusi Igambi,
Senior International Trade Specialist, U.S. Department of Commerce, Houston, TX 77002.

[FR Doc. E9-630 Filed 1-13-09; 8:45 am]

BILLING CODE 3510-DS-P